DEPARTMENT OF TRANSPORTATION

Federal Aviation Administration

Agency Information Collection Activity Seeking OMB Approval

AGENCY: Federal Aviation Administration (FAA), DOT.

ACTION: Notice.

SUMMARY: The FAA invites public comments about our intention to request the Office of Management and Budget's (OMB) approval of a new information collection. The Federal Register Notice with a 60-day comment period soliciting comments on the following collection of information was published on November 28, 2006, vol. 71, no. 228, page 68881. The New England Region Aviation Expo database performs conference registration and helps plan the logistics and non-pilot courses for the expo.

DATES: Please submit comments by November 8, 2007.

FOR FURTHER INFORMATION CONTACT: Carla Mauney at Carla.Mauney@faa.gov.

SUPPLEMENTARY INFORMATION:

Federal Aviation Administration (FAA)

Title: New England Region Aviation Expo Database.

Type of Request: Approval for a new collection.

OMB Control Number: 2120-XXXX.

Forms(s): There are no FAA forms associated with this collection.

Affected Public: An estimated 500 Respondents.

Frequency: This information is collected once annually.

Estimated Average Burden per Response: Approximately 15 seconds per response.

Estimated annual Burden Hours: An estimated 2 hours annually.

Abstract: The New England Region Aviation Expo database performs conference registration and helps plan the logistics and non-pilot courses for the expo.

ADDRESSES: Interested persons are invited to submit written comments on the proposed information collection to the Office of Information and Regulatory Affairs, Office of Management and Budget. Comments should be addressed to Nathan Lesser, Desk Officer, Department of Transpiration/FAA, and sent via electronic mail to oira_submission@omb.eop.gov or faxed to (202) 395-6974.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on September 27, 2007.
Carla Mauney,
FAA Information Collection Clearance Officer, IT Enterprises Business Services Division, AES-200.

[FR Doc. 07-4960 Filed 10-5-07; 8:45 am]

BILLING CODE 4910-13-M